DEPARTMENT OF LABOR

Employment and Training Administration

[TA-W-52,030]

Plassein International, Martin Michigan Operations, Martin, MI; Notice of Termination of Investigation

Pursuant to section 221 of the Trade Act of 1974, an investigation was initiated on June 13, 2003, in response to a petition filed on behalf of workers at Plassein International, Martin Michigan Operations, Martin, Michigan.

The company official who filed the petition requested that the petition be withdrawn. Consequently, further investigation in this case would serve no purpose and the investigation has been terminated.

Signed in Washington, DC this 27th day of June 2003.
Elliott S. Kushner,
Certifying Officer, Division of Trade Adjustment Assistance.

[FR Doc. 03-17450 Filed 7-9-03; 8:45 am]

BILLING CODE 4510-30-P